DEPARTMENT OF EDUCATION

National Assessment Governing Board: Meeting

AGENCY: National Assessment Governing Board; Education

ACTION: Notice of partially closed and closed meetings.

SUMMARY: This notice sets forth the schedule and proposed agenda of a forthcoming meeting of the National Assessment Governing Board. This notice also describes the functions of the Board. Notice of this meeting is required under Section 10(a)(2) of the Federal Advisory Committee Act. This document is intended to notify the general public of their opportunity to attend.

DATES: August 3-5, 2000.

TIME: August 3—Subject Area Committee #1, 2-5 p.m. (closed); Achievement Levels Committee, 3-5 p.m.; Executive Committee, 5:30-6:15 p.m. (open), 6:15-7 p.m., (closed). August 4—Full Board 8:30-10:30 a.m., (open); Subject Area Committee #2, 10:30 a.m.-12 p.m. (open), 12-12:30 p.m., (closed); Reporting and Dissemination Committee, 10:30 a.m.-12:30 p.m. (open); Design and Methodology Committee, 10:30 a.m.-12:30 p.m., (open); Full Board 12:30-1:30 p.m., (closed), and 1:30-4 p.m., (open). August 5—full Board, 8:30 a.m.-adjournment, approximately, 12 noon, (open).

LOCATION: Ritz Carlton Pentagon City, 1250 South Hayes Street, Arlington, Virginia.

FOR FURTHER INFORMATION CONTACT: Mary Ann Wilmer, Operations Officer, National Assessment Governing Board, Suite 825, 800 North Capitol Street, NW, Washington, D.C., 20002-4233, Telephone: (202) 357-6938

SUPPLEMENTARY INFORMATION: The National Assessment Governing Board is established under section 412 of the National Education Statistics Act of 1994 (Title IV of the Improving America's Schools Act of 1994) (Pub. L. 103-382).

The Board is established to formulate policy guidelines for the National Assessment of Educational Progress. The Board is responsible for selecting subject areas to be assessed, developing assessment objectives, identifying appropriate achievement goals for each grade and subject tested, and establishing standards and procedures for interstate and national comparisons. Under P.L. 105-78, the national Assessment Governing Board is also granted exclusive authority over developing the Voluntary National Tests pursuant to contact number RJ9753001.

On Thursday, August 3, there will be meetings of three committees of the Governing Board. From 2-5 p.m., Subject Area Committees #1 will meet in closed session to review secure test items for the National Assessment of Educational Progress (NAEP) in the following subject areas: reading, writing, and geography. This meeting must be closed to the public because reference may be made to data which may be misinterpreted, incorrect, or incomplete. Premature disclosure of this data might significantly frustrate implementation of a proposed agency action. Such matters are protected by exemption 9(B) of section 552b(c) of Title 5 U.S.C.

The Achievement Levels committee will meet in open session on Thursday, August 3, from 3 to 5 p.m., to receive an update on the voluntary national test, to review the work on the achievement levels study, and to review sections of the achievement levels report on student performance standards.

Also, on August 3, the Executive Committee will meet in partially closed session. In the open session from 5:30-6:15 p.m. the Committee will hear an update on the Voluntary National Tests contract, the NAEP participation issues, and NAEP reauthorization; the Committee also will discuss possible changes to the Governing Board meeting schedule and committee structure.

From 6:15-7 p.m., the Executive Committee will meet in closed session. There are two agenda items for the closed session. First, the Committee will hear an update on the development of cost estimates for NAEP and future contract initiatives. Public disclosure of this information would be likely to significantly frustrate implementation of a proposed agency action if conducted in open session. Such matters are protected by exemption (9) (B) of Section 552b(c) of Title 5 U.S.C.

Second, the Executive Committee will discuss the qualifications of current Board members to serve as Vice-Chairman of NAGB. Based upon these discussions, the Board will elect a Vice-Chairman. This portion of the meeting will relate solely to the internal personnel rules and practices of an agency and will disclose information of a personal nature where disclosure would constitute a clearly unwarranted invasion of personal privacy and, as such, is protected by exemptions (2) and (6) of Section 552b(c) of Title 5 U.S.C.

On August 4, the full Board, will convene in open session beginning at 8:30 a.m. In addition to the approval of the agenda, a report from the Executive Director, and an update on the NAEP project, the Board will hear a report on College Board Initiatives and receive a report from the Ad Hoc Committee on NAEP Participation and discuss the findings.

Subject Area Committee #2 will meet in partially closed session. From 10:30 a.m.-12:00 p.m., the Committee will meet in open session to discuss issues related to the upcoming NAEP 2004 mathematics framework update project. In closed session, from 12:00-12:30 p.m., the Committee will review secure test items for the proposed Voluntary National Test (VNT) in 8th grade mathematics. This portion of the meeting must be conducted in closed session because public disclosure of this information would likely have an adverse financial effect on the NAEP program. The discussion of this information would be likely to significantly frustrate implementation of a proposed agency action if conducted in open session. Such matters are protected by exemption 9(B) of section 552b(c) of Title 5 U.S.C.

There will be open meetings of the Reporting and Dissemination Committee and the Design and Methodology Committee from 10:30 a.m.-12:30 p.m.

Agenda items for the Reporting and Dissemination Committee include the schedule for the release of future NAEP reports; reporting NAEP 2000 mathematics assessment, samples with and without accommodations; private school reporting plans for NAEP 2002 assessments in reading and writing; and an update on reporting NAEP long-term trend data in writing, internet and printed reports.

The Design and Methodology committee will meet in open session to receive an update on the voluntary national test, and to review a progress report on the market basket study.

The full Board will reconvene in closed session from 12:30-1:30 p.m. to hear the 1999 NAEP Long-Term Trend Report. During this meeting, Dr. Peggy Carr, Associate Commissioner of NCES, will make a presentation to the full Board. The session may discuss specific items from the 1999 Long Term Trend Assessment in Math, Science and Reading. If the meeting was held in open session, the disclosure of such information might significantly frustrate implementation of a proposed agency action. Such matters are protected by exemption 9(B) of section 552b(c) of Title 5 U.S.C.

From 1:30-4:00 p.m. the board will meet in open session. Agenda items for this portion of the meeting include a panel discussion on mathematics assessment issues, receiving conclusions and recommendations on Achievement Levels and the Follow-up Report to Congress and hear an update on a study regarding the impact of incentives and rewards on NAEP.

On Saturday, August 5, the Board will hear an update on NAEP/NAGB Reauthorization and conclude with the presentation of committee reports and Board actions.

A summary of the activities of the closed, partially closed sessions, and other related matters which are informative to the public and consistent with the policy of the section 5 U.S.C. 552b(c), will be available to the public within 14 days after the meeting. Records are kept of all Board proceedings and are available for public inspection at the U.S. Department of Education, National Assessment Governing Board, Suite #825, 800 North Capitol Street, NW, Washington, DC, from 8:30 a.m. to 5:00 p.m.

Roy Truby,
Executive Director, National Assessment Governing Board.

[FR Doc. 00-18663 Filed 7-21-00; 8:45 am]

BILLING CODE 4000-01-M